DEPARTMENT OF THE INTERIOR

Office of Surface Mining Reclamation and Enforcement

[S1D1S SS08011000 SX064A000 256S180110; S2D2S SS08011000 SX064A000 25XS501520; OMB Control Number 1029-0087]

Agency Information Collection Activities; Abandoned Mine Land Problem Area Description Form

AGENCY: Office of Surface Mining Reclamation and Enforcement, Interior.

ACTION: Notice of information collection; request for comment.

SUMMARY: In accordance with the Paperwork Reduction Act of 1995, we, the Office of Surface Mining Reclamation and Enforcement (OSMRE), are proposing to renew an information collection.

DATES: Interested persons are invited to submit comments. To be considered, your comments must be received on or before July 16, 2025.

ADDRESSES: Written comments and recommendations for this proposed information collection request (ICR) should be sent to www.reginfo.gov/public/do/PRAMain. You may find this particular ICR by selecting “Currently under 30-day Review—Open for Public Comments” or by using the search function. Please provide a copy of your comments to William Frankel, Office of Surface Mining Reclamation and Enforcement, 1849 C Street NW, Room 4547-MIB, Washington, DC 20240, by email to wfrankel@osmre.gov, or by phone at (202) 208-0121. Please reference OMB Control Number 1029-0087 in the subject line of your comments.

FOR FURTHER INFORMATION CONTACT: William Frankel by email at wfrankel@osmre.gov or by phone at (202) 208-0121. Individuals in the United States who are deaf, deafblind, hard of hearing, or have a speech disability may dial 711 (TTY, TDD, or TeleBraille) to access telecommunications relay services. Individuals outside the United States should use the relay services offered within their country to make international calls to the point-of-contact in the United States. You may also view the ICR at https://www.reginfo.gov/public/do/PRAMain.

SUPPLEMENTARY INFORMATION: In accordance with the Paperwork Reduction Act of 1995 (PRA; 44 U.S.C. 3501 et seq.) and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on November 22, 2024 (89 FR 92717). No comments were received.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: The problem area description (PAD) form is used to update the OSMRE's electronic inventory of abandoned mine lands (e-AMLIS); an inventory of abandoned mine lands is required by section 403(c) of the Surface Mining Control and Reclamation Act of 1977, as amended (30 U.S.C. 1233(c)). From this inventory, the most serious problem areas are selected for reclamation through the apportionment of funds to States and Indian tribes.

Title of Collection: Abandoned Mine Land Problem Area Description Form.

OMB Control Number: 1029-0087.

Form Number: None.

Type of Review: Extension of a currently approved collection.

Respondents/Affected Public: State and Tribal governments.

Total Estimated Number of Annual Respondents: 27.

Total Estimated Number of Annual Responses: 1,720.

Estimated Completion Time per Response: Varies from 1.5 hour to 8 hours, depending on activity.

Total Estimated Number of Annual Burden Hours: 4,530.

Respondent's Obligation: Required to obtain or retain a benefit.

Frequency of Collection: One time.

Total Estimated Annual Nonhour Burden Cost: $0.

An agency may not conduct or sponsor and a person is not required to respond to a collection of information unless it displays a currently valid OMB control number.

The authority for this action is the Paperwork Reduction Act of 1995 (44 U.S.C. 3501 et seq.).

William L. Frankel,
Information Collection Clearance Officer, Office of Surface Mining Reclamation and Enforcement.

[FR Doc. 2025-10869 Filed 6-13-25; 8:45 am]

BILLING CODE 4310-05-P